DEPARTMENT OF DEFENSE

Department of the Army

[Docket ID: USA-2019-HQ-0023]

Submission for OMB Review; Comment Request

AGENCY: Office of the Assistant Secretary of the Army for Civil Works (ASA(CW)), U.S. Army Corps of Engineers, DoD.

ACTION: 30-Day information collection notice.

SUMMARY: The Department of Defense has submitted to OMB for clearance the following proposal for collection of information under the provisions of the Paperwork Reduction Act.

DATES: Consideration will be given to all comments received by October 30, 2019.

ADDRESSES: Comments and recommendations on the proposed information collection should be emailed to Mr. Vlad Dorjets, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: 2019 Agricultural Shipper Transportation Needs Survey—Ohio River System; OMB Control Number 0710-XXXX.

Type of Request: New.

Number of Respondents: 1,174.

Responses per Respondent: 1.

Annual Responses: 1,174.

Average Burden per Response: 15 minutes

Annual Burden Hours: 293.5.

Needs and Uses: The data obtained from these surveys are used by the Army Corps of Engineers to estimate the shipper's response to changes in waterway attributes (such as congestion, reliability, rates and travel time). Hence, the overall objective of the proposed research is to develop shipper response function estimates for the Ohio River Waterway System.

Affected Public: Business or other For-Profit. All commercial commodity shippers, with a focus on grain as the primary commodity in the Ohio River Navigational system. For the purposes of this study, a shipper is defined as a company that sends or transports the good.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 25, 2019.
Aaron T. Siegel,
Alternate OSD Federal Register, Liaison Officer, Department of Defense.

[FR Doc. 2019-21191 Filed 9-27-19; 8:45 am]

BILLING CODE 5001-06-P